DEPARTMENT OF LABOR

29 CFR Part 30

RIN 1205-AB59

Apprenticeship Programs; Equal Employment Opportunity; Correction

AGENCY: Employment and Training Administration, Department of Labor.

ACTION: Correcting amendment.

SUMMARY: The Department of Labor (Department or DOL) is making technical corrections to the equal employment opportunity regulations that implement the National Apprenticeship Act of 1937.

DATES: Effective February 12, 2019.

FOR FURTHER INFORMATION CONTACT: John Ladd, Administrator, Office of Apprenticeship, Employment and Training Administration, U.S. Department of Labor, 200 Constitution Avenue NW, Room C-5321, Washington, DC 20210, oa.administrator@dol.gov, (202) 693-2796 (this is not a toll-free number). Individuals with hearing or speech impairments may access this telephone number via TTY by calling the toll-free Federal Information Relay Service at 1-800-877-8339.

SUPPLEMENTARY INFORMATION: The Department of Labor issued a final rule published in the Federal Register on December 19, 2016 (81 FR 92026), to modernize the equal employment opportunity regulations that implement the National Apprenticeship Act of 1937. The existing regulations, set forth at 29 CFR part 30 (part 30), prohibit discrimination in registered apprenticeship on the basis of race, color, religion, national origin, and sex, and require that sponsors of registered apprenticeship programs take affirmative action to provide equal opportunity in such programs.

The technical corrections being made, address minor publication errors, and therefore; should be treated as if they had been in the final rule published in the December 19, 2016 Federal Register (81 FR 92026).

List of Subjects in 29 CFR Part 30

Administrative practice and procedure, Apprenticeship, Employment, Equal employment opportunity, Reporting and recordkeeping requirements, Training.

For the reasons set out in the preamble, 29 CFR part 30 is amended by making the following correcting amendments:

PART 30—EQUAL EMPLOYMENT OPPORTUNITY IN APPRENTICESHIP

1. The authority citation for part 30 continues to read as follows:

Authority: Sec. 1, 50 Stat. 664, as amended (29 U.S.C. 50; 40 U.S.C. 276c; 5 U.S.C. 301); Reorganization Plan No. 14 of 1950, 64 Stat. 1267, 3 CFR 1949-53 Comp. p. 1007.

§ 30.3 [Amended]

2. Amend § 30.3 as follows:

a. In paragraph (a)(2)(iv), remove “29 U.S.C. 2000ff et seq.” and add in its place “42 U.S.C. 2000ff et seq.”; and

b. In paragraph (b)(2)(i), remove “29.5(c) of this title” and add in its place “29.5(b) of this title”.

Molly E. Conway,
Acting Assistant Secretary for Employment and Training.

[FR Doc. 2019-02019 Filed 2-11-19; 8:45 am]

BILLING CODE 4510-FR-P